DEPARTMENT OF ENERGY

Federal Energy Regulatory Commission

[Project No. 2722-008; Utah]

PacifiCorp Power Company; Notice of Availability of Final Environmental Assessment

April 12, 2000.

In accordance with the National Environmental Policy Act of 1969 and the Federal Energy Regulatory Commission's (Commission) regulations, 18 CFR part 380 (Order No. 486, 52 FR 47897), the Office of Energy Projects has reviewed the application for a new license for the Pioneer Hydroelectric Project, and has prepared a Final Environmental Assessment (FEA). The project is located on the Ogden River near the City of Ogden, Weber County, Utah. The water to operate the project comes from the Pineview dam, via the Ogden Canyon Conduit. The dam is owned and operated by the Bureau of Reclamation (BOR). However, a portion of the 5.5-mile-long flowline is located within the Cache National Forest, administered by the U.S. Forest Service (FS).

On February 17, 2000, the Commission staff issued a draft environmental assessment (DEA) for the project and requested that comments be filed with the Commission within 30 days. Comments on the DEA were filed by the U.S. Department of the Interior, Fish and Wildlife Service and PacifiCorp and are addressed in the FEA.

The FEA contains the staff's analysis of the potential environmental impacts of the project and concludes that licensing the project, with appropriate environmental protective measures, would not constitute a major federal action that would significantly affect the quality of the human environment.

Copies of the FEA are available for review in the Public Reference Room, Room 2A, of the Commission's offices at 888 First Street, NE, Washington, DC 20426.

Linwood A. Watson, Jr.,
Acting Secretary.

[FR Doc. 00-9593 Filed 4-17-00; 8:45 am]

BILLING CODE 6717-01-M